DEPARTMENT OF HEALTH AND HUMAN SERVICES

Centers for Disease Control and Prevention (CDC)

Request for Nominations of Candidates To Serve on the Board of Scientific Counselors, Office of the Public Health Preparedness and Response, Centers for Disease Control and Prevention, Department of Health and Human Services

The CDC is soliciting nominations for possible membership on the Board of Scientific Counselors, Office of Public Health Preparedness and Response (BSC, OPHPR).

CDC provides technical assistance and resources to state and local public health agencies to support their efforts to build prepared and resilient communities. CDC provides subject-matter expertise and assistance for domestic and global surveillance, laboratory, occupational health and epidemiology functions, and health threats including anthrax, smallpox, influenza and other infectious diseases, food-borne illness, and radiation, among others. OPHPR leads the agency's preparedness and response activities by providing strategic direction, support, and coordination for activities across CDC as well as with local, state, tribal, national, territorial, and international public health partners.

The BSC (http://www.cdc.gov/phpr/science/counselors.htm) provides advice and guidance to the Secretary of the Department of Health and Human Services, the Director, CDC, and the Director, OPHPR, concerning strategies and goals for the programs within OPHPR's divisions; conducts peer-review of scientific programs; and monitors the overall strategic direction and focus of the divisions. The BSC, OPHPR may perform second-level peer review of applications for grants-in-aid for research and research training activities, cooperative agreements, and research contract proposals relating to the broad areas within the office.

Nominations are being sought for individuals who have expertise and qualifications necessary to contribute to the accomplishments of the OPHPR's objectives (http://www.cdc.gov/phpr/). Nominees will be selected based upon expertise in fields relevant to the issues addressed by divisions within the coordinating office, including emergency preparedness and response; medicine, epidemiology, laboratory science, informatics, behavioral science, social science, engineering, business, and crisis leadership. Whenever possible, nominees should be acknowledged experts in their fields whose credibility is beyond question. All nominees should have demonstrated skills in critical evaluation of data and communication skills necessary to promote efficient and effective deliberations.

Federal employees will not be considered for membership. Members may be invited to serve up to four-year terms. The U.S. Department of Health and Human Services policy stipulates that committee membership be balanced in terms of professional training and background, points of view represented, and the board's function. Consideration is given to a broad representation of geographic areas within the U.S., with equitable representation of gender, ethnic and racial minorities, and persons with disabilities. Nominees must be U.S. citizens.

The following information must be submitted for each candidate: Name, affiliation, address, telephone number, and current curriculum vitae. Email addresses are requested if available.

Nominations should be sent by November 15, 2013 to: CDR Christye Brown, BSC Coordinator, Office of Science and Public Health Practice, Office of Preparedness and Emergency Response, Centers for Disease Control and Prevention, via email to ophpr.bsc.questions@cdc.gov. Telephone and facsimile submissions cannot be accepted.

The Director, Management Analysis and Services Office, has been delegated the authority to sign Federal Register notices pertaining to announcements of meetings and other committee management activities for both the Centers for Disease Control and Prevention and the Agency for Toxic Substances and Disease Registry.

Elaine L. Baker,
Director, Management Analysis and Services Office, Centers for Disease Control and Prevention.

[FR Doc. 2013-13737 Filed 6-10-13; 8:45 am]

BILLING CODE 4163-18-P